DEPARTMENT OF THE INTERIOR

Fish and Wildlife Service

Availability of Draft Comprehensive Conservation Plan and Environmental Assessment for Salinas River National Wildlife Refuge, Monterey County, California

AGENCY: Fish and Wildlife Service, Interior.

ACTION: Notice of availability.

SUMMARY: The U.S. Fish and Wildlife Service announces that a Draft Comprehensive Conservation Plan and Environmental Assessment (CCP/EA) for Salinas River National Wildlife Refuge (Refuge) is available for review and comment. This CCP/EA, prepared pursuant to the National Wildlife Refuge System Improvement Act of 1997 and the National Environmental Policy Act of 1969, describes how the U.S. Fish and Wildlife Service intends to manage the Refuge for the next 15 years. Also available for review with the CCP/EA are draft compatibility determinations for waterfowl hunting, surf fishing, wildlife observation and photography, environmental education and interpretation, research, and mosquito control.

DATES: Please submit comments on the Draft CCP/EA on or before December 14, 2001.

ADDRESSES: Comments on the Draft CCP/EA should be addressed to: Mark Pelz, Planning Team Leader, U.S. Fish and Wildlife Service, CA/NV Refuge Planning Office, 2800 Cottage Way, Room W-1916, Sacramento, CA 95825. Comments may also be submitted via electronic mail to FW1PlanningComments@fws.gov. Please type “Salinas River NWR” in the subject line.

FOR MORE INFORMATION CONTACT: Mark Pelz, U.S. Fish and Wildlife Service, California/Nevada Refuge Planning Office, Room W-1916, 2800 Cottage Way, Sacramento, California, 95825; (916) 414-6504; fax (916) 414-6512; or Ivette Loredo, Refuge Manager, Salinas River National Wildlife Refuge, PO Box 524, Newark, CA 94560-0524; (510) 792-0222.

SUPPLEMENTARY INFORMATION:

Availability of Documents

Copies of the Draft CCP/EA may be obtained by writing to U.S. Fish and Wildlife Service, Attn: Mark Pelz, California/Nevada Refuge Planning Office, Room W-1916, 2800 Cottage Way, Sacramento, California, 95825. Copies of the plan may be viewed at this address or at the San Francisco Bay NWR Complex Headquarters, #1 Marshlands Road, Fremont, California. The Draft CCP/EA will also be available for viewing and download online at http://pacific.fws.gov/planning.

Background

The Salinas River Refuge encompasses 366 acres located 11 miles north of Monterey, California, where the Salinas River empties into Monterey Bay. The Refuge is part of the San Francisco Bay National Wildlife Refuge Complex, which has its headquarters in Fremont, California. Refuge lands include a range of terrestrial and aquatic habitats, including coastal dunes and beach, grasslands, wetlands, and riparian scrub. Because of its location within the Pacific Flyway, the Refuge is used by a variety of migratory birds during breeding, wintering, and migration periods. It also provides habitat for several threatened and endangered species, including western snowy plover, California brown pelican, Smith's blue butterfly, Monterey gilia, and Monterey spineflower. Approximately 40 species that occur or are suspected to occur on the Refuge are considered sensitive by Federal or State agencies. Current recreational uses on the Refuge include wildlife observation and photography, waterfowl hunting, and access to surf fishing.

This Draft CCP/EA identifies and evaluates four alternatives for managing Salinas River National Wildlife Refuge in Monterey County, California for the next 15 years.

Under the No Action Alternative, the Refuge would continue to be managed as it has been in the recent past (approximately the last ten years). Existing recreational uses would continue. For example, the Refuge would continue to provide limited hunting opportunities and surf fishing access. Similarly, wildlife observation and photography would occur on the Refuge. However, there would be no guided tours or docent program and no facilities would be built or improved. Recreational use would likely increase due to population growth in the area and a greater awareness of the existence of the Refuge. The Refuge is currently fenced along its southern boundary only. No new fencing would be added under the No Action Alternative. Under the No Action Alternative, resource management would include: removing and controlling invasive plants; managing mammalian predators to reduce predation on western snowy plovers; monitoring and managing snowy plover; conducting limited species inventories; mowing grasslands; planting native riparian trees and shrubs (mostly along the Salinas River); and managing mosquitos. The Service would rely primarily on partnerships with local and State agencies, organizations, universities, and adjacent landowners to accomplish many of its resource protection and monitoring goals. The level of staffing and funding currently devoted to the Refuge would remain the same under this alternative.

Under Alternative 2, the Refuge would focus exclusively on protecting, enhancing, and restoring natural resources. The rationale for this alternative is that there are few other public lands in the Monterey Bay area whose primary mission is to protect endangered species and other wildlife. The Refuge supports a regionally important population of the western snowy plover, which is federally listed as threatened. More intensive management of this snowy plover population and control of public use may be required to increase the size of the population and maintain its long-term viability on the Refuge. Under this alternative, the Refuge would be closed to all public use except guided tours offered by Service staff for wildlife observation, photography, and environmental interpretation and education. The Refuge would be fenced along most of its borders to prevent unauthorized access. The beach below mean high water would remain open for public use, including surf fishing, because the Refuge does not control lands below mean high water. However, beach access through the Refuge would be stopped; users would be permitted to access the beach only from the public beaches adjacent to the Refuge. In addition, the Service would pursue a long-term lease with the State Lands Commission to manage the beach and tidelands below mean high water. Alternative 2 would redirect most of the limited resources currently devoted to public use management to support increasing the intensity of natural resources management. All of the current resource management activities would continue under this alternative. New management tools and techniques would include: using prescribed fire to augment mowing and herbicide use in the grassland/shrubland habitat; conducting comprehensive inventories of all species on the Refuge; translocating problem avian predators of the western snowy plover; and creating a Geographic Information System (GIS) database to track vegetation and population trends. Full implementation of this alternative would require increased staffing and funding.

Alternative 3 represents the Service's preferred management scenario/proposed action. Under Alternative 3, public use of the Refuge would be improved but not substantially expanded. For example, informational signs and interpretive exhibits would be installed on the Refuge and a wheelchair-accessible trail to the Salinas River would be constructed. In addition, the existing parking lot would be improved (e.g., graded, paved, or covered with gravel). The area in which seasonal waterfowl hunting is permitted would be reduced by approximately 15 percent to protect roosting California brown pelicans. All of the current management activities would continue under this alternative. Some activities, such as special-status species inventories, would be substantially expanded. New management tools and techniques would include: using prescribed fire to augment mowing and herbicide use in the grassland/shrubland habitat; conducting inventories of all habitats on the Refuge; translocating problem avian predators of the western snowy plover; and creating a GIS database to track vegetation and population trends. In addition, the Service would pursue a long-term lease with the State Lands Commission to manage the beach and tidelands below mean high water. Full implementation of this alternative would require increased staffing and funding.

Under Alternative 4, public use of the Refuge would be improved and expanded. For example, informational signs and interpretive exhibits would be installed on the Refuge, a wheelchair-accessible trail to the Salinas River and to the beach (on a boardwalk) would be constructed, hunting blinds would be built along the Salinas River, and a restroom would be installed near the parking lot. In addition, the existing parking lot and privately owned access road would be improved (e.g., paved or covered with gravel), greatly improving access to the Refuge, particularly during the rainy season. The seasonal hunt area would be reduced, as in Alternative 3. All of the current management activities would continue under this alternative. New management tools and techniques would include: using prescribed fire to augment mowing and herbicide use in the grassland/shrubland habitat; conducting inventories of all habitats on the Refuge; translocating problem avian predators of the western snowy plover; and creating a GIS database to track vegetation and population trends. In addition, the Service would pursue a long-term lease with the State Lands Commission to manage the beach and tidelands below mean high water. Full implementation of this alternative and management of the expected increase in public use and the potential conflicts between this use and protection of natural resources would require substantially increased staffing and funding.

Dated: November 6, 2001.
Steve Thompson,
Acting Manager, California/Nevada Operations Office, Fish and Wildlife Service, Sacramento, California.

[FR Doc. 01-28437 Filed 11-13-01; 8:45 am]

BILLING CODE 4310-55-P